COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add products and services to the Procurement List that will be furnished by nonprofit agencies employing persons who are blind or have other severe disabilities, and delete product(s) and service(s) previously furnished by such agencies.

DATES: Comments must be received on or before: December 27, 2025.

ADDRESSES: Committee for Purchase From People Who Are Blind or Severely Disabled, 355 E Street SW, Suite 325, Washington DC, 20024.

FOR FURTHER INFORMATION CONTACT: For further information or to submit comments contact: Michael R. Jurkowski, Telephone: (703) 489-1322, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

Product(s)

In accordance with 41 CFR 51-2.4(b), Government personnel within the contracting activity have identified this as a product requirement not applicable to other Federal entities and has requested the Committee consider granting a purchase or distribution preference if the product is added to the Procurement List. See 71 FR 69536 (Dec. 1, 2006). If the Committee grants this request, the products will not be available through the U.S. AbilityOne Commission's Commercial Distribution Program. The Committee will consider this request along with relevant comments received from interested parties.

The following product(s) are proposed for addition to the Procurement List for production by the nonprofit agencies listed:

NSN(s)—Product Name(s): 810012201N—Package Filler, Cushioning, Bubble, Roll, Perforated, 12′ x 175″

Authorized Source of Supply: Alphapointe, Kansas City, MO

Mandatory For: Total Government Requirement

Contracting Activity: GSA/FAS ADMIN SVCS ACQUISITION BR(2 1095-01-598-4343—Combat Knife, Mini, Out the Front (OTF)

Authorized Source of Supply: DePaul Industries, Portland, OR

Mandatory For: DEPARTMENT OF DEFENSE

Contracting Activity: DLA LAND AND MARITIME, LAND SUPPLIER OPERATIONS SMS

Service(s)

In accordance with 41 CFR 51-5.3(b), the Committee intends to add this services requirement to the Procurement List as a mandatory purchase only for the contracting activity listed at location listed with the proposed qualified nonprofit agency as the authorized source of supply. Prior to adding the service to the Procurement List, the Committee will consider other pertinent information, including information from Government personnel and relevant comments from interested parties regarding the Committee's intent to geographically limit this services requirement.

Service Type: Tactical Fleet Operator Support

Mandatory for: US Army, Directorate of Training Sustainment, Fort Benning, Fort Benning, GA

Contracting Activity: DEPT OF THE ARMY, W6QM MICC-FT MOORE

Authorized Source of Supply: Brevard Achievement Center, Inc., Rockledge, FL

Deletions

The following product(s) and service(s) are proposed for deletion to the Procurement List:

Product(s)

NSN(s)—Product Name(s):

8415-01-092-7514—Cover, PASGT Helmet, Woodland Camouflage, XS/S

8415-01-092-7515—Cover, PASGT Helmet, Woodland Camouflage, M/L

8415-01-303-8945—Cover, PASGT Helmet, Woodland Camouflage, X-LG

8415-01-521-8357—Cover, Advanced Combat Helmet, No Comm Flap, Universal Camouflage, S/M

8415-01-521-8360—Cover, Advanced Combat Helmet, No Comm Flap, Universal Camouflage, L/XL

8415-01-521-8806—Cover, Advanced Combat Helmet, with Comm Flap, Universal Camouflage, S/M

8415-01-521-8808—Cover, Advanced Combat Helmet, with Comm Flap, Universal Camouflage, L/XL

8415-01-591-5907—Cover, Enhanced Combat Helmet, Universal Camouflage Pattern, S/M

8415-01-591-5918—Cover, Enhanced Combat Helmet, Universal Camouflage Pattern, L/XL

8415-01-591-5946—Cover, Enhanced Combat Helmet, Universal Camouflage Pattern, XXL

Authorized Source of Supply: Alabama Industries for the Blind, Talladega, AL

Authorized Source of Supply: Lions Services, Inc., Charlotte, NC

Authorized Source of Supply: Industries of the Blind, Inc, Greensboro, NC

Authorized Source of Supply: Lions Volunteer Blind Industries, Inc., Morristown, TN

Authorized Source of Supply: The Lighthouse for the Blind in New Orleans, Inc., New Orleans, LA

Authorized Source of Supply: Blind Industries & Services of Maryland, Baltimore, MD

Authorized Source of Supply: Mississippi Industries for the Blind (Inc), Jackson, MS

Authorized Source of Supply: LC Industries, Inc., Durham, NC

Authorized Source of Supply: Winston-Salem Industries for the Blind, Inc, Winston-Salem, NC

Authorized Source of Supply: Mount Rogers Community Services Board, Wytheville, VA

Mandatory For: DEPARTMENT OF DEFENSE

Contracting Activity: DEFENSE LOGISTICS AGENCY, DLA TROOP SUPPORT

Contracting Activity: DEPT OF THE ARMY, W6QK ACC-APG NATICK

Service(s)

Service Type: Janitorial Custodial

Mandatory for GSA: Courthouses, Portland OR

Contracting Activity: GENERAL SERVICES ADMINISTRATION, PUBLIC BUILDINGS SERVICE, PBS R10

Service Type: Grounds Maintenance, Guard Services, Alarm Monitoring

Mandatory for GSA: Fort Sam Houston and Camp Bullis Reserve Centers: Building 1610 (2010 Harry Wurzbach Highway), Robert Gray Army Airfield (RGAAF): III Corps and Fort Hood Army Airfield and U.S. Army Reserve Center: 1920 Harry Wurzbach Highway

Contracting Activity: DEPT OF THE ARMY, W40M RHCO-ATLANTIC USAHCA

Service Type: Janitorial/Custodial

Mandatory for GSA: US Office of Personnel Management, Federal Executive Institute, Charlottesville, VA

Contracting Activity: OFFICE OF PERSONNEL MANAGEMENT, OPM DC CENTRAL OFFICE CONTRACTING

Service Type: Document Management

Mandatory for GSA: USDA Forest Service, Pacific Northwest Region, Region 6, & the Pacific Northwest Research Station,1220 SW 3rd Avenue, Portland, OR

Contracting Activity: DEPT OF AGRICULTURE, FOREST SERVICE, NORTHWEST OREGON CONTRACTING AREA

Michael R. Jurkowski,
Director, Business Operations.

[FR Doc. 2025-21465 Filed 11-26-25; 8:45 am]

BILLING CODE 6353-01-P